DEPARTMENT OF LABOR

Employment and Training Administration

[TA-W-74,063]

TRG Insurance Solutions, Beckley, WV; Notice of Revised Determination on Reconsideration

By application dated August 12, 2010 petitioners requested administrative reconsideration of the Department's negative determination regarding the eligibility of workers and former workers of TRG Insurance Solutions, Beckley, West Virginia, to apply for Trade Adjustment Assistance. On August 30, 2010, the Department issued a Notice of Affirmative Determination Regarding Application for Reconsideration. The Department's Notice was published in the Federal Register on September 13, 2010 (75 FR 55612). Workers at the subject firm are engaged in employment related to the supply of insurance call center services.

Based on the information obtained during the reconsideration investigation, the Department determines that the subject firm shifted to a foreign country a significant proportion of the services like or directly competitive with the insurance call center services supplied by the subject workers.

Conclusion

After careful review of the additional facts obtained during the reconsideration investigation, I determine that workers of TRG Insurance Solutions, Beckley, West Virginia, who are engaged in employment related to the supply of insurance call center services, meet the worker group certification criteria under Section 222(a) of the Act, 19 U.S.C. 2272(a). In accordance with Section 223 of the Act, 19 U.S.C. 2273, I make the following certification:

All workers of TRG Insurance Solutions, Beckley, West Virginia, who became totally or partially separated from employment on or after May 7, 2009, through two years from the date of this revised certification, and all workers in the group threatened with total or partial separation from employment on date of certification through two years from the date of certification, are eligible to apply for adjustment assistance under Chapter 2 of Title II of the Trade Act of 1974, as amended.

Signed in Washington, DC, this 6th day of October, 2010.
Del Min Amy Chen,
Certifying Officer, Office of Trade Adjustment Assistance.

[FR Doc. 2010-26773 Filed 10-22-10; 8:45 am]

BILLING CODE 4510-FN-P